DEPARTMENT OF JUSTICE

Notice of Lodging of Consent Decrees Pursuant to the Comprehensive Environmental Response, Compensation, and Liability Act of 1980, as Amended

Notice is hereby given that on December 18, 2000, a proposed consent decree in United States v. Hexagon Laboratories of New York, Inc., et al., Civil Action No, 96 Civ. 2911 (DAB), was lodged with the United States District Court for the Southern District of New York.

In this action, the United States sought the recovery of response costs incurred by the United States with respect to the Hexagon laboratories Superfund Site (the “Site”) in the Bronx, New York. The proposed consent decree resolves the United States' claims under the Comprehensive Environmental Response, Compensation, and Liability Act (“CERCLA”), 42 U.S.C. 9601 et seq., against defendant Louis P. Wiener relating to the Site. Under the terms of the proposed consent decree. Mr. Wiener will pay $110,000, in installments, in satisfaction of the United States' claims.

The Department of Justice will receive for a period of thirty (30) days from the date of this publication comments relating to the proposed consent decree. Comments should be addressed to the Assistant Attorney General of the Environment and Natural Resources Division, Department of Justice, Washington, DC 20530, and should refer to United States v. Hexagon Laboratories of New York, Inc., et. al., Civil Action No. 96 Civ. 2911 (DAB), D.J. Ref. 90-11-3-1662.

The proposed consent decree may be examined at the Office of the United States Attorney, Southern District of New York, 100 Church Street, New York, New York 10007, and at U.S. EPA Region II, 290 Broadway, New York, New York 10007. A copy of the proposed consent decree may be obtained by mail from the Consent Decree Library, P.O. Box 7611, Washington, DC 20044-7611. In requesting a copy, please enclose a check in the amount of $5.00 (25 cents per page reproduction cost).

Bruce Gelber,
Chief, Environmental Enforcement Section, Environmental and Natural Resources Division.

[FR Doc. 00-33057 Filed 12-27-00; 8:45 am]

BILLING CODE 4410-15-M